FEDERAL COMMUNICATIONS COMMISSION

47 CFR Part 9

[GN Docket No. 23-65, IB Docket No. 22-271, FCC 24-28]

Single Network Future: Supplemental Coverage From Space; Space Innovation

AGENCY: Federal Communications Commission.

ACTION: Final rule; announcement of effective date.

SUMMARY: In this document, the Federal Communications Commission (Commission) announces that the Office of Management and Budget (OMB) has approved, for a period of three years, a new information collection associated with certain rules adopted in the 2024 Single Network Future: Supplemental Coverage from Space; Space Innovation Report and Order (Report and Order). This document is consistent with the Report and Order, which stated the Commission would publish a document in the Federal Register announcing the effective date for these rules.

DATES: The additions of 47 CFR 9.10(t)(3) through (5) (amendatory instruction 8), published at 89 FR 34148 on April 30, 2024, are effective on October 7, 2024.

FOR FURTHER INFORMATION CONTACT: Rachel Wehr, Public Safety and Homeland Security Bureau at 202-418-1138 or via email Rachel.Wehr@fcc.gov. For additional information concerning the Paperwork Reduction Act information collection requirements, contact Nicole Ongele at (202) 418-2991 or via email: Nicole.Ongele@fcc.gov.

SUPPLEMENTARY INFORMATION: This document announces that, on September 27, 2024, OMB approved, for a period of three years, the information collection requirements contained in the Commission's Report and Order, FCC 24-28, published at 89 FR 34148 on April 30, 2024. The OMB Control Number is 3060-1331. The Commission publishes this document as an announcement of the effective date of the rules. If you have any comments on the burden estimates listed below, or how the Commission can improve the collections and reduce any burdens cause thereby, please contact Nicole Ongele, Federal Communications Commission, Room 3.310, 45 L Street NE, Washington, DC 20554. Please include OMB Control Number, 3060-1331, in your correspondence. The Commission will also accept your comments via email at PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public it received OMB approval on September 27, 2024, for the information collection requirements contained in the Commission's rules at 47 CFR 9.10(t)(3) through (5).

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1331.

OMB Approval Date: September 27, 2024.

OMB Expiration Date: September 30, 2027.

Title: Section 9.10(t), Interim 911 Requirements for Supplemental Coverage from Space.

Form Number: N/A.

Type of Review: New information collection.

Respondents: Business or other for-profit entities.

Number of Respondents and Responses: 59 respondents; 59 responses.

Estimated Time per Response: 49 hours.

Frequency of Response: One-time and annual reporting requirements.

Obligation to Respond: Mandatory. Statutory authority for this collection is contained in sections 1, 2, 4(i), 4(j), 4(o), 251(e), 303(b), 303(g), 303(r), 316, and 403 of the Communications Act of 1934, as amended, 47 U.S.C. 151, 152, 154(i), 154(j), 154(o), 251(e), 303(b), 303(g), 303(r), 316, 403, and section 4 of the Wireless Communications and Public Safety Act of 1999, Public Law 106-81, sections 101 and 201 of the New and Emerging Technologies 911 Improvement Act of 2008, Public Law 110-283, and section 106 of the Twenty-First Century Communications and Video Accessibility Act of 2010, Public Law 111-260, as amended 47 U.S.C. 615a, 615a-1, 615b, 615c.

Total Annual Burden: 2,891 hours.

Total Annual Cost: No Cost.

Needs and Uses: In the Report and Order, the Commission adopted rules to enable collaborations between satellite operators and terrestrial service providers to offer ubiquitous connectivity directly to consumer handsets using spectrum previously allocated only to terrestrial service. The Commission noted that this Supplemental Coverage from Space (SCS) framework will expand the reach of communications services, particularly emergency services, so that connectivity and assistance is available in more remote places. In recognition of the importance of 911 service to emergency response and disaster preparedness, the Commission also adopted interim 911 text and call routing requirements for terrestrial providers that use SCS arrangements to extend their coverage service areas, including certain information collection requirements. The Commission will use the data generated by these information collections to monitor CMRS provider compliance as well as analyze the growth and development of 911 system access for end-users.

Annual Reporting Requirement. Under 47 CFR 9.10(t)(3), each CMRS provider that utilizes SCS arrangements to expand its coverage areas for providing service to its end-user subscribers must maintain records of all SCS 911 voice calls and SCS 911 text messages received on its network and received at its emergency call center. In addition, by October 15 of each year, each CMRS provider that utilizes SCS arrangements to expand its coverage areas for providing service to its end-user subscribers must submit a report to the Commission regarding SCS 911 voice calls and 911 text messages, and its emergency call center data, current as of September 30 of that year. CMRS providers must submit these reports in the Commission's Electronic Comment Filing System.

These reports must include, at a minimum: (i) The name and address of the CMRS provider, the address of that CMRS provider's emergency call center, and the contact information of the emergency call center; (ii) The aggregate number of SCS 911 voice calls and SCS 911 text messages received by the network of the CMRS provider that provides SCS service to its end-user subscribers during each month during the relevant reporting period; (iii) The aggregate number of SCS 911 voice calls and SCS 911 text messages received by the emergency call center each month during the relevant reporting period; (iv) The aggregate number of SCS 911 voice calls and SCS 911 text messages received by the emergency call center each month during the relevant reporting period that required forwarding to a PSAP and how many did not require forwarding to a PSAP; (v) The aggregate number of SCS 911 voice calls that were routed using location information that met the timeliness and accuracy thresholds defined in paragraphs (s)(3)(i)(A) and (B) of this section; (vi) The aggregate number of SCS 911 voice calls and SCS 911 text messages that were routed using location information that did not meet the timeliness and accuracy thresholds defined in paragraphs (s)(3)(i)(A) and (B) of this section; and (vii) an explanation of how the SCS deployment, including network architecture, systems, and procedures, will support routing SCS 911 voice calls and SCS 911 text messages to the geographically appropriate PSAP with sufficient location information in compliance with paragraph (t)(2) of this section.

One-time Privacy Certification Requirement. Under 47 CFR 9.10(t)(4), CMRS providers that utilize SCS arrangements to expand their coverage areas for providing service to their end-user subscribers must certify on a one-time basis that neither they nor any third party they rely on to obtain location information or associated data used for compliance with paragraph (t)(2)(i) or (ii) will use such location information or associated data for any non-911 purpose, except with prior express consent or as otherwise permitted or required by law. The certification must state that the CMRS provider and any third parties it relies on to obtain location information or associated data used for compliance with paragraph (t)(2)(i) or (ii) have implemented measures sufficient to safeguard the privacy and security of such location information or associated data. CMRS providers must submit this one-time certification in the Commission's Electronic Comment Filing System on the due date of the first report made under paragraph (t)(3) of this section.

Subscriber Notification Requirement. Under 47 CFR 9.10(t)(5), each CMRS provider that utilizes SCS arrangements to expand its coverage areas for providing service to its end-user subscribers shall specifically advise every subscriber, both new and existing, in writing prominently and in plain language, of the circumstances under which 911 service for all SCS 911 calls or SCS 911 text messages may not be available via SCS or may be in some way limited by comparison to traditional enhanced 911 service.

Federal Communications Commission.
Katura Jackson,
Federal Register Liaison Officer.

[FR Doc. 2024-23074 Filed 10-4-24; 8:45 am]

BILLING CODE 6712-01-P